DEPARTMENT OF LABOR

Employment and Training Administration

[TA-W-55,019]

Timken Co., Canton, Ohio; Notice of Termination of Investigation

Pursuant to section 221 of the Trade Act of 1974, as amended, an investigation was initiated on June 3, 2004, in response to a petition filed by the United Steelworkers of America, on behalf of workers at Timken Company, Canton, Ohio.

The petitioner has requested that the petition be withdrawn. Consequently, further investigation in this case would serve no purpose, and the investigation has been terminated.

Signed at Washington, DC, this 10th day of June 2004.
Elliott S. Kushner,
Certifying Officer, Division of Trade Adjustment Assistance.

[FR Doc. 04-15304 Filed 7-6-04; 8:45 am]

BILLING CODE 4510-30-P